DEPARTMENT OF VETERANS AFFAIRS

[OMB Control No. 2900-New (HSNGV)]

Agency Information Collection Activities (Health Surveillance for a New Generation of U.S. Veterans) Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before July 14, 2008.

ADDRESSES: Submit written comments on the collection of information through www.Regulations.gov; or to VA's OMB Desk Officer, OMB Human Resources and Housing Branch, New Executive Office Building, Room 10235, Washington, DC 20503, (202) 395-7316. Please refer to “OMB Control No. 2900-New (HSNGV)” in any correspondence.

FOR FURTHER INFORMATION CONTACT: Denise McLamb, Records Management Service (005R1B), Department of Veterans Affairs, 810 Vermont Avenue, NW., Washington, DC 20420, (202) 461-7485, fax (202) 273-0443 or e-mail denise.mclamb@mail.va.gov. Please refer to “OMB Control No. 2900-New (HSNGV).”

SUPPLEMENTARY INFORMATION: Title: Health Surveillance for a New Generation of U.S. Veterans Survey.

OMB Control Number: 2900-New (HSNGV).

Type of Review: New collection.

Abstract: The Health Surveillance for a New Generation of U.S. Veterans survey will be used to collect data from Operation Iraqi Freedom and Operation Enduring Freedom veterans regarding their current health status and concerns, exposures of concern in the theater, health care preferences, and health behaviors and attitudes, and to gain knowledge on veterans who have not used VA health care since returning from the current conflict. The data collected will help VA to plan and provide better health care to Operation Iraqi Freedom and Operation Enduring Freedom veterans, as well as understanding the long-term consequences of military deployment.

An agency may not conduct or sponsor, and a person is not required to respond to a collection of information unless it displays a currently valid OMB control number. The Federal Register Notice with a 60-day comment period soliciting comments on this collection of information was published on March 17, 2008 at page 14307.

Affected Public: Individuals or households.

Estimated Annual Burden: 24,858 hours.

Estimated Average Burden per Respondent: 30-45 minutes.

Frequency of Response: On occasion.

Estimated Number of Respondents: 38,300.

Dated: June 6, 2008.
By Direction of the Secretary.
Denise McLamb,
Program Analyst, Records Management Service.

[FR Doc. E8-13243 Filed 6-11-08; 8:45 am]

BILLING CODE 8320-01-P